DEPARTMENT OF THE INTERIOR

Fish and Wildlife Service

Notice of Intent To Prepare a Comprehensive Conservation Plan for Ridgefield National Wildlife Refuge, and Notification of Two Public Open House Meetings

AGENCY: Fish and Wildlife Service, Department of the Interior.

ACTION: Notice of intent and notice of two public open house meetings.

SUMMARY: This notice advises the public that the U.S. Fish and Wildlife Service (Service) intends to prepare a Comprehensive Conservation Plan (CCP) for the Ridgefield National Wildlife Refuge (Refuge), and announces two public open house meetings. The Refuge is located in Clark County, Washington. The Service is furnishing this notice to: advise other agencies and the public of our intentions; and obtain suggestions and information on the scope of issues to include in the CCP and associated environmental compliance document.

DATES: Two public open house meetings will be held. The first open house is scheduled for Thursday, September 14, 2006, from 6 p.m. to 9 p.m. at the Ridgefield Community Center in Ridgefield, Washington (see ADDRESSES). The second open house is scheduled for Wednesday, September 20, 2006, from 6 p.m. to 9 p.m. at the Vancouver Public Library, in Vancouver, Washington (see ADDRESSES). Please provide written comments on the scope of the CCP by November 3, 2006. All comments received from individuals become part of the official public record. Requests for such comments will be handled in accordance with the Freedom of Information Act, the National Environmental Policy Act of 1969 as amended (NEPA), and Service and Department of the Interior policies and procedures.

ADDRESSES: Address comments, questions, and requests for further information to: Project Leader, Ridgefield National Wildlife Refuge Complex, P.O. Box 457, Ridgefield, WA 98642. Comments may be faxed to the Refuge at (360) 887-4109, or e-mailed to FW1PlanningComments@fws.gov. Additional information concerning the Refuge is available on the following Internet site: http://www.fws.gov/ridgefieldrefuges/. Addresses for the two public open house meeting locations follow.

1. Ridgefield Community Center, 210 North Main Avenue, Ridgefield, Washington 98642.

2. Vancouver Community Library, 1007 East Mill Plain Boulevard, Vancouver, Washington 98663.

FOR FURTHER INFORMATION CONTACT: Tim Bodeen, Project Leader, Ridgefield National Wildlife Refuge Complex, P.O. Box 457, Ridgefield, WA 98642, phone (360) 887-4106, and fax (360) 887-4109.

SUPPLEMENTARY INFORMATION: The Service is furnishing this notice in accordance with the National Wildlife Refuge System Administration Act of 1966 (the Act) as amended (16 U.S.C. 668dd-668ee), NEPA, and their implementing regulations in order to: advise other agencies and the public of our intentions; and obtain suggestions and information on the scope of issues to include in the CCP and associated NEPA document. Opportunities for public input will be announced throughout the CCP planning and development process. It is estimated that the draft CCP and NEPA document will be available for public review in May 2008.

By Federal law (the Act), all lands within the National Wildlife Refuge System will be managed in accordance with an approved CCP by 2012. A CCP guides a refuge's management decisions and identifies long-range refuge goals, objectives, and strategies for achieving the purposes for which the refuge was established. During the CCP planning process many elements will be considered, including: Wildlife and habitat management, public use opportunities, and cultural resource protection. Public input during the planning process is essential. The CCP for the Ridgefield Refuge will describe desired conditions for the Refuge and the long-term goals, objectives, and strategies for achieving those conditions. The Service will prepare an associated NEPA document in accordance with procedures for implementing NEPA.

The Refuge's approved boundary encompasses 6,170 acres of lower Columbia River bottomlands in Clark County, Washington; of this the Service owns approximately 5,217 acres. The Refuge was established in 1965 to provide habitat for wintering waterfowl, with an emphasis on dusky Canada geese after nesting areas in Alaska were severely impacted by the Great Alaska Earthquake of 1964.

Habitat types found on the Refuge include several subtypes of bottomland hardwood forest, managed pastures, old fields, croplands, bottomland (wet) prairies, Oregon white oak woodlands, western hemlock (mixed) forests, emergent marshes, open water marshes, and tidal riverine habitat. Populations of the endangered water howellia plant are found within the Refuge's Blackwater Research Natural Area.

The Refuge provides important migratory and wintering habitat for numerous bird species, including six subspecies of Canada geese, swans, dabbling and diving ducks, bald eagles, and sandhill cranes. The Refuge also contains one of the largest great blue heron colonies in the State, and provides breeding habitat for bald eagles and many species of neotropical migratory birds.

Preliminary Issues, Concerns, and Opportunities

The following preliminary issues, concerns, and opportunities have been identified and will be addressed in the CCP. Additional issues will be identified during public scoping.

Habitat Management and Restoration: What actions shall the Service take to sustain and restore priority species and habitats over the next 15 years?

Public Use and Access: What type and level of recreation opportunities should be provided? Are existing Refuge access points and uses adequate and appropriate? Which areas of the Refuge should be managed as undisturbed sanctuary areas and which areas should be open to public use? How will the recently completed Cathlapotle Plankhouse fit into interpretation and education programs on the Refuge?

Invasive Species Control: How do invasive species affect functioning native systems, and what actions should be taken to reduce the incidence and spread of invasive species?

Cultural Resources: How will the Refuge protect and manage its significant archaeological and historic sites? What level and type of cultural resources education should be provided to the public?

Dated: July 26, 2006.
David J. Wesley,
Acting Regional Director, Region 1, Portland, Oregon.

[FR Doc. E6-12424 Filed 8-1-06; 8:45 am]

BILLING CODE 4310-55-P